DEPARTMENT OF EDUCATION

Applications for New Awards; Comprehensive Literacy State Development Program

AGENCY: Office of Elementary and Secondary Education, Department of Education.

ACTION: Notice.

SUMMARY: The Department of Education is issuing a notice inviting applications for new awards for fiscal year (FY) 2019 for the Comprehensive Literacy State Development (CLSD) program, Catalog of Federal Domestic Assistance (CFDA) number 84.371C. This notice relates to the approved information collection under OMB control number 1894-0006.

DATES:

Applications Available: May 3, 2019.

Deadline for Transmittal of Applications: June 3, 2019.

Deadline for Intergovernmental Review: August 1, 2019.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Cindy Savage, U.S. Department of Education, 400 Maryland Avenue SW, Room 3E230, Washington, DC 20202-6450. Telephone: (202) 453-5998. Email: cindy.savage@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The Comprehensive Literacy State Development (CLSD) program awards competitive grants to advance literacy skills, through the use of evidence-based practices, activities and interventions, including pre-literacy skills, reading, and writing, for children from birth through grade 12, with an emphasis on disadvantaged children, including children living in poverty, English learners (as defined in this notice), and children with disabilities (as defined in this notice).

Background: The fiscal year 2019 competition for new CLSD awards fully transitions the program to the Elementary and Secondary Education Act of 1965, as amended by the Every Student Succeeds Act (ESEA). We have, therefore, focused this year's competition very closely on the requirements in the statute. In addition, we have included two competitive preference priorities that highlight key policy ideas on which we would like to see States focus their literacy plans or encourage eligible subgrant applicants to focus their local literacy plans. First, we give competitive preference to projects that would include evidence-based family literacy strategies as a key component to their literacy plans. We believe that encouraging parents and families to read with their children and promote reading at home is critical to instilling a passion for reading early in a child's life. Second, we give competitive preference to projects that would focus on effective literacy interventions while also increasing educational options for groups of students who have traditionally been underserved. To the extent practicable, we encourage States to consider ways to design their subgrant competitions to promote literacy interventions for students in rural communities, with disabilities, who are English learners, or who are in foster care. These interventions may take place outside of the traditional public school setting, including, for example, through community partnerships.

Priorities: This competition includes two competitive preference priorities. The competitive preference priorities are from the Secretary's Final Supplemental Priorities and Definitions for Discretionary Grant Programs published in the Federal Register on March 2, 2018 (83 FR 9096) (Supplemental Priorities).

Competitive Preference Priorities: For FY 2019 and any subsequent year in which we make awards from the list of unfunded applications from this competition these priorities are competitive preference priorities. Under 34 CFR 75.105(c)(2)(i) we award up to an additional five points to an application depending on how well the application meets each of these priorities, for a maximum of 10 additional points if both priorities are adequately addressed.

These priorities are:

Priority 1—Promoting Literacy (up to 5 points).

Projects that are designed to provide families with evidence-based (as defined in this notice) strategies for promoting literacy. This may include providing families with access to books or other physical or digital materials or content about how to support their child's reading development, or providing family literacy activities (as defined in section 203(9) of the Workforce Innovation and Opportunity Act of 2014).

Priority 2—Empowering Families and Individuals to Choose a High-Quality Education That Meets Their Unique Needs (up to 5 points).

Projects that are designed to increase the proportion of students with access to educational choice (as defined in this notice) for one or more of the following groups of children or students:

(a) Children or students in communities served by rural local educational agencies (as defined in this notice).

(b) Children or students with disabilities (as defined in this notice).

(c) English learners (as defined in this notice).

(d) Children or students who are or were previously in foster care.

Application Requirements: These application requirements are from sections 2222 and 2223 of the ESEA (20 U.S.C. 6642-6643). For FY 2019, and any subsequent year in which we make awards from the list of unfunded applications from this competition, the following application requirements apply. In order to receive funding, an applicant must submit an application that meets the following requirements:

(a) State Agency Early Childhood Program Collaboration.

To be eligible under this program, an SEA must collaborate with the State agency responsible for administering early childhood education programs and the State agency responsible for administering child care programs in the State, as well as, if applicable, the State Advisory Council on Early Childhood Education and Care (SAC) designated or established pursuant to section 642B(b)(1)(A)(i) of the Head Start Act (42 U.S.C. 9837b(b)(1)(A)(i)), in writing and implementing the early childhood education portion of the grant application submitted for the CLSD program.

(b) State Needs Assessment.

To be eligible under this program, an SEA must include a needs assessment that analyzes literacy needs across the State and in high-need schools (as defined in this notice) and local educational agencies (LEAs) that serve high-need schools, including identifying the most significant gaps in literacy proficiency and inequities in student access to effective teachers of literacy, considering each of the subgroups of students, as defined in section 1111(c)(2) of the ESEA.

(c) State Comprehensive Literacy Plan.

To be eligible under this program, an SEA must include a description of how, in collaboration with its State literacy team, if applicable, it will develop a State comprehensive literacy instruction (as defined in this notice) plan or will revise and update an already existing State comprehensive literacy instruction plan.

(d) State Implementation Plan.

To be eligible under this program, an SEA must include an implementation plan that includes a description of how it will carry out the State-level activities.

(e) Assurances.

To be eligible under this program, an SEA must include in its application the following assurances:

(1) State Funding Allocations.

An SEA must assure that it will subgrant not less than 95 percent of grant funds to eligible entities (as defined in this notice), based on their needs assessment and a competitive application process, for comprehensive literacy instruction (as defined in this notice) programs according to the funding allocations in Program Requirement (a).

(2) Serving Low-Income and High-Need Students.

An SEA must assure that it will give priority in awarding subgrants to eligible entities (as defined in this notice) that—

(i) Serve children from birth through age 5 who are from families with income levels at or below 200 percent of the Federal poverty line (as defined in this notice); or

(ii) Are LEAs serving a high number or percentage of high-need schools (as defined in this notice).

(3) Geographic Diversity.

An SEA must assure that it will provide subgrants to eligible entities (as defined in this notice) serving a diversity of geographic areas, giving priority to entities serving greater numbers or percentages of children from low-income families.

Program Requirements: These program requirements are from sections 2222-2225 and 2301 of the ESEA. For FY 2019 and any subsequent year in which we make awards from the list of unfunded applications from this competition, the following program requirements apply.

(a) State Funding Allocations.

(1) Grantees must use not less than 95 percent of grant funds to award subgrants to eligible entities (as defined in this notice), based on their needs assessment and a competitive application process;

(2) Grantees must subgrant funds as follows:

(i) Not less than 15 percent of the funds awarded to subgrantees must be used for State and local programs and activities pertaining to children from birth through kindergarten entry;

(ii) Not less than 40 percent of the funds awarded to subgrantees must be used for State and local programs and activities, allocated equitably among the grades of kindergarten through grade 5; and

(iii) Not less than 40 percent of the funds awarded to subgrantees must be used for State and local programs and activities, allocated equitably among grades 6 through 12.

(b) State-Level Activities.

(1) A grantee may reserve not more than 5 percent of the CLSD funds it receives for activities identified through the needs assessment and comprehensive literacy plan, including the following activities:

(i) Providing technical assistance, or engaging qualified providers to provide technical assistance, to eligible entities (as defined in this notice) to enable the eligible entities to design and implement literacy programs.

(ii) Coordinating with institutions of higher education in the State to provide recommendations to strengthen and enhance pre-service courses for students preparing to teach children from birth through grade 12 in explicit, systematic, and intensive instruction in evidence-based (as defined in this notice) literacy methods.

(iii) Reviewing and updating, in collaboration with teachers and institutions of higher education, State licensure or certification standards in the area of literacy instruction in early education through grade 12.

(iv) Making publicly available, including on the SEA's website, information on promising instructional practices to improve child literacy achievement.

(v) Administering and monitoring the implementation of subgrants by eligible entities (as defined in this notice).

(2) After making awards to subgrantees and carrying out the State-level activities described in this notice, an SEA may use any remaining amount to carry out one or more of the following activities:

(i) Developing literacy coach training programs and training literacy coaches.

(ii) Administration and evaluation of CLSD activities.

(3) Consultation requirement.

A grantee must consult with the State agency responsible for administering early childhood education programs, the State agency responsible for administering child care programs, and, if applicable, the SAC in making and implementing subgrants under the early childhood education portion of the CLSD program.

(d) Requirements that apply to subgrants to eligible entities (as defined in this notice) in support of birth through kindergarten entry literacy.

(1) Subgrantee application requirements.

An eligible entity (as defined in this notice) desiring to receive a subgrant under CLSD must submit an application to the SEA, at such time, in such manner, and containing such information as the SEA may require. Such application must include a description of—

(i) How the CLSD funds will be used to enhance the language and literacy development and school readiness of children, from birth through kindergarten entry, in early childhood education programs, which must include an analysis of data that support the proposed use of CLSD funds;

(ii) How the CLSD funds will be used to prepare and provide ongoing assistance to staff in the programs, including through high-quality professional development (as defined in this notice);

(iii) How the activities assisted with the CLSD funds will be coordinated with comprehensive literacy instruction (as defined in this notice) at the kindergarten through grade 12 levels; and

(iv) How the CLSD funds will be used to evaluate the success of the activities assisted under the subgrant in enhancing the early language and literacy development of children from birth through kindergarten entry.

(2) Priority.

In awarding subgrants to eligible entities (as defined in this notice) in support of birth through kindergarten entry, section 2222(d)(2)(E)of the ESEA requires that an SEA must provide an assurance that it will—

(i) Give priority to an eligible entity (as defined in this notice) that will use CLSD funds to implement evidence-based (as defined in this notice) activities; and

(ii) Give priority to an eligible entity (as defined in this notice) that will use CLSD funds to serve children from birth through age 5 who are from families with income levels at or below 200 percent of the Federal poverty line (as defined in this notice) or is an LEA serving a high number or percentage of high-need schools (as defined in this notice).

(3) Duration.

The term of a subgrant must be determined by the grantee and must not exceed five years.

(4) Sufficient size and scope.

Each subgrant must be of sufficient size and scope to allow the eligible entity (as defined in this notice) to carry out high-quality early literacy initiatives for children from birth through kindergarten entry.

(5) Local uses of funds.

An eligible entity (as defined in this notice) that receives a subgrant from the SEA must use the CLSD funds, consistent with the entity's approved application, to—

(i) Carry out high-quality professional development (as defined in this notice) opportunities for early childhood educators, teachers, principals, other school leaders, paraprofessionals, specialized instructional support personnel, and instructional leaders;

(ii) Train providers and personnel to develop and administer evidence-based (as defined in this notice) early childhood education literacy initiatives; and

(iii) Coordinate the involvement of families, early childhood education program staff, principals, other school leaders, specialized instructional support personnel (as appropriate), and teachers in literacy development of children served under CLSD.

(e) Requirements that apply to subgrants to eligible entities (as defined in this notice) in support of kindergarten through grade 12 literacy.

(1) Subgrantee application requirements.

An eligible entity (as defined in this notice) desiring to receive a subgrant from the SEA under the CLSD program must submit an application to the SEA at such time, in such manner, and containing such information as the SEA may require. Such application must include, for each school that the eligible entity (as defined in this notice) identifies as participating in a CLSD program, the following information:

(i) A description of the eligible entity's (as defined in this notice) needs assessment conducted to identify how CLSD funds will be used to inform and improve comprehensive literacy instruction (as defined in this notice) at the school.

(ii) How the school, the LEA, or a provider of high-quality professional development (as defined in this notice) will provide ongoing high-quality professional development to all teachers, principals, other school leaders, specialized instructional support personnel (as appropriate), and other instructional leaders served by the school.

(iii) How the school will identify children in need of literacy interventions or other support services.

(iv) An explanation of how the school will integrate comprehensive literacy instruction (as defined in this notice) into a well-rounded education (as defined in this notice).

(v) A description of how the school will coordinate comprehensive literacy instruction (as defined in this notice) with early childhood education programs and activities and after-school programs and activities in the area served by the LEA.

(2) Priority.

In awarding subgrants to eligible entities (as defined in this notice) the SEA must—

(i) Give priority to an eligible entity (as defined in this notice) that will use grant funds to implement evidence-based (as defined in this notice) activities; and

(ii) Give priority to an eligible entity (as defined in this notice) that is an LEA serving a high number or percentage of high-need schools (as defined in this notice).

(3) Duration.

The term of a subgrant must be determined by the grantee and must not exceed five years.

(4) Sufficient size and scope.

Each subgrant must be of sufficient size and scope to allow the eligible entity (as defined in this notice) to carry out high-quality comprehensive literacy instruction (as defined in this notice) in each grade level for which the CLSD funds are provided.

(5) Local uses of funds for kindergarten through grade 5.

An eligible entity (as defined in this notice) that receives a subgrant from the SEA under the CLSD program must use the CLSD funds to carry out the following activities pertaining to children in kindergarten through grade 5:

(i) Developing and implementing a comprehensive literacy instruction (as defined in this notice) plan across content areas for such children that—

(A) Serves the needs of all children, including children with disabilities (as defined in this notice) and English learners (as defined in this notice), especially children who are reading or writing below grade level;

(B) Provides intensive, supplemental, accelerated, and explicit intervention and support in reading and writing for children whose literacy skills are below grade level; and

(C) Supports activities that are provided primarily during the regular school day but that may be augmented by after-school and out-of-school time instruction.

(ii) Providing high-quality professional development (as defined in this notice) opportunities for teachers, literacy coaches, literacy specialists, English as a second language specialists (as appropriate), principals, other school leaders, specialized instructional support personnel, school librarians, paraprofessionals, and other program staff.

(iii) Training principals, specialized instructional support personnel, and other LEA personnel to support, develop, administer, and evaluate high-quality kindergarten through grade 5 literacy initiatives.

(iv) Coordinating the involvement of early childhood education program staff, principals, other instructional leaders, teachers, teacher literacy teams, English as a second language specialists (as appropriate), special educators, school personnel, and specialized instructional support personnel (as appropriate) in the literacy development of children served.

(v) Engaging families and encouraging family literacy experiences and practices to support literacy development.

(6) Local uses of funds for grades 6 through 12.

An eligible entity (as defined in this notice) that receives a subgrant from the SEA under CLSD must use CLSD funds to carry out the following activities pertaining to children in grades 6 through 12:

(i) Developing and implementing a comprehensive literacy instruction (as defined in this notice) plan across content areas for such children that—

(A) Serves the needs of all children, including children with disabilities (as defined in this notice) and English learners (as defined in this notice), especially children who are reading or writing below grade level;

(B) Provides intensive, supplemental, accelerated, and explicit intervention and support in reading and writing for children whose literacy skills are below grade level; and

(C) Supports activities that are provided primarily during the regular school day but that may be augmented by after-school and out-of-school time instruction.

(ii) Training principals, specialized instructional support personnel, school librarians, and other LEA personnel to support, develop, administer, and evaluate high-quality comprehensive literacy instruction (as defined in this notice) initiatives for grades 6 through 12.

(iii) Assessing the quality of adolescent comprehensive literacy instruction (as defined in this notice) as part of a well-rounded education (as defined in this notice).

(iv) Providing time for teachers to meet to plan evidence-based (as defined in this notice) adolescent comprehensive literacy instruction (as defined in this notice) to be delivered as part of a well-rounded education (as defined in this notice).

(v) Coordinating the involvement of principals, other instructional leaders, teachers, teacher literacy teams, English as a second language specialists (as appropriate), paraprofessionals, special educators, specialized instructional support personnel (as appropriate), and school personnel in the literacy development of children served.

(7) Additional local allowable uses of funds for kindergarten through grade 12.

An eligible entity that receives a subgrant from an SEA under CLSD may, in addition to carrying out the activities described in paragraphs 5 and 6 of this requirement, use subgrant funds to carry out the following activities pertaining to children in kindergarten through grade 12:

(i) Recruiting, placing, training, and compensating literacy coaches.

(ii) Connecting out-of-school learning opportunities to in-school learning in order to improve children's literacy achievement.

(iii) Training families and caregivers to support the improvement of adolescent literacy.

(iv) Providing for a multi-tier system of supports for literacy services.

(v) Forming a school literacy leadership team to help implement, assess, and identify necessary changes to the literacy initiatives in 1 or more schools to ensure success.

(vi) Providing time for teachers (and other literacy staff, as appropriate, such as school librarians or specialized instructional support personnel) to meet to plan comprehensive literacy instruction (as defined in this notice).

(e) Supplement not supplant.

Grantees must use CLSD funds to supplement, and not supplant, non-Federal funds that would otherwise be used for activities authorized under the CLSD program.

(f) Cooperation with national evaluation.

Grantees must cooperate with a national evaluation of the CLSD program (34 CFR 75.591). The evaluation will include high-quality research that applies rigorous and systematic procedures to obtain valid knowledge relevant to the implementation and effect of the CLSD program. The evaluation will directly coordinate with individual State evaluations of the CLSD program implementation.

Definitions: These definitions are from sections 2221 and 8101 of the ESEA, as amended, and the Supplemental Priorities.

Children or students with disabilities means children with disabilities as defined in the Individuals with Disabilities Education Act (IDEA), which is—

(a) A child—

(i) With intellectual disabilities, hearing impairments (including deafness), speech or language impairments, visual impairments (including blindness), serious emotional disturbance (referred to in the IDEA as “emotional disturbance”), orthopedic impairments, autism, traumatic brain injury, other health impairments, or specific learning disabilities; and

(ii) Who, by reason thereof, needs special education and related services.

(b) The term “child with a disability” for a child aged 3 through 9 (or any subset of that age range, including ages three through five), may, at the discretion of the State and the local educational agency, include a child—

(i) Experiencing developmental delays, as defined by the State and as measured by appropriate diagnostic instruments and procedures, in one or more of the following areas: Physical development; cognitive development; communication development; social or emotional development; or adaptive development; and

(ii) Who, by reason thereof, needs special education and related services.

Comprehensive literacy instruction means instruction that—

(a) Includes developmentally appropriate, contextually explicit, and systematic instruction, and frequent practice, in reading and writing across content areas;

(b) Includes age-appropriate, explicit, systematic and intentional instruction in phonological awareness, phonic decoding, vocabulary, language structure, reading fluency, and reading comprehension;

(c) Includes age-appropriate, explicit instruction in writing, including opportunities for children to write with clear purposes, with critical reasoning appropriate to the topic and purpose, and with specific instruction and feedback from instructional staff;

(d) Makes available and uses diverse, high-quality print materials that reflect the reading and development levels, and interests, of children;

(e) Uses differentiated instructional approaches, including individual and small group instruction and discussion;

(f) Provides opportunities for children to use language with peers and adults in order to develop language skills, including developing vocabulary;

(g) Includes frequent practice of reading and writing strategies;

(h) Uses age-appropriate, valid, and reliable screening assessments, diagnostic assessments, formative assessment processes, and summative assessments to identify a child's learning needs, to inform instruction, and to monitor the child's progress and the effects of instruction;

(i) Uses strategies to enhance children's motivation to read and write and children's engagement in self-directed learning;

(j) Incorporates the principles of universal design for learning;

(k) Depends on teachers' collaboration in planning, instruction, and assessing a child's progress and on continuous professional learning; and

(l) Links literacy instruction to the challenging State academic standards, including the ability to navigate, understand, and write about, complex print and digital subject matter.

Educational choice means the opportunity for a child or student (or a family member on their behalf) to create a high-quality personalized path for learning that is consistent with applicable Federal, State, and local laws; is in an educational setting that best meets the child's or student's needs; and, where possible, incorporates evidence-based activities, strategies, or interventions. Opportunities made available to a student through a grant program are those that supplement what is provided by a child's or student's geographically assigned school or the institution in which he or she is currently enrolled and may include one or more of the options listed below:

(1) Public educational programs or courses including those offered by traditional public schools, public charter schools, public magnet schools, public online education providers, or other public education providers.

(2) Internships, apprenticeships, or other programs offering access to learning in the workplace.

(3) Dual or concurrent enrollment programs or early college high schools (as defined in section 8101(15) and (17) of the ESEA), or other programs that enable secondary school students to begin earning credit toward a postsecondary degree or credential prior to high school graduation.

(4) Other educational services including credit-recovery, accelerated learning, or tutoring.

Eligible entity means an entity that consists of—

(a) One or more LEAs that serve a high percentage of high-need schools and—

(1) Have the highest number or proportion of children who are counted under section 1124(c) of the ESEA, in comparison to other LEAs in the State;

(2) Are among the LEAs in the State with the highest number or percentages of children reading or writing below grade level, based on the most currently available State academic assessment data under section 1111(b)(2) of the ESEA; or

(3) Serve a significant number or percentage of schools that are implementing comprehensive support and improvement activities and targeted support and improvement activities under section 1111(d) of the ESEA;

(b) One or more early childhood education programs serving low-income or otherwise disadvantaged children, which may include home-based literacy programs for pre-school-aged children, that have a demonstrated record of providing comprehensive literacy instruction for the age group such program proposes to serve; or

(c) An LEA, described in paragraph (a), or consortium of such LEAs, or an early childhood education program, which may include home-based literacy programs for preschool-aged children, acting in partnership with one or more public or private nonprofit organizations or agencies (which may include early childhood education programs) that have a demonstrated record of effectiveness in—

(1) Improving literacy achievement of children, consistent with the purposes of participation under the CLSD program, from birth through grade 12; and

(2) Providing professional development in comprehensive literacy instruction.

English learner means an individual—

(a) Who is aged 3 through 21;

(b) Who is enrolled or preparing to enroll in an elementary school or secondary school;

(c)(i) Who was not born in the United States or whose native language is a language other than English;

(ii)(I) Who is a Native American or Alaska Native, or a native resident of the outlying areas; and

(II) Who comes from an environment where a language other than English has had a significant impact on the individual's level of English language proficiency; or

(iii) Who is migratory, whose native language is a language other than English, and who comes from an environment where a language other than English is dominant; and

(d) Whose difficulties in speaking, reading, writing, or understanding the English language may be sufficient to deny the individual—

(i) The ability to meet the challenging State academic standards;

(ii) The ability to successfully achieve in classrooms where the language of instruction is English; or

(iii) The opportunity to participate fully in society.

Evidence-based, when used with respect to a State, LEA, or school activity, means an activity, strategy, or intervention that demonstrates a statistically significant effect on improving student outcomes or other relevant outcomes based on—

(a) Strong evidence from at least one-well designed and well-implemented experimental study;

(b) Moderate evidence from at least one well-designed and well-implemented quasi-experimental study; or

(c) Promising evidence from at least one well-designed and well-implemented correlational study with statistical controls for selection bias.

High-need school means—

(a)(i) An elementary school or middle school in which not less than 50 percent of the enrolled students are children from low-income families; or

(ii) A high school in which not less than 40 percent of the enrolled students are children from low-income families, which may be calculated using comparable data from the schools that feed into the high school.

(b) For the purposes of subparagraph (a) of this definition, the term “low-income family” means a family—

(i) In which the children are eligible for a free or reduced-price lunch under the Richard B. Russell National School Lunch Act (42 U.S.C. 1751 et seq.);

(ii) Receiving assistance under the program of block grants to States for temporary assistance for needy families established under part A of title IV of the Social Security Act (42 U.S.C. 601 et seq.); or

(iii) In which the children are eligible to receive medical assistance under the Medicaid program under title XIX of the Social Security Act (42 U.S.C. 1396 et seq.).

Poverty line means the poverty line (as defined by the Office of Management and Budget and revised annually in accordance with section 673(2) of the Community Services Block Grant Act) applicable to a family of the size involved.

Professional development means activities that—

(a) Are an integral part of school and LEA strategies for providing educators (including teachers, principals, other school leaders, specialized instructional support personnel, paraprofessionals, and, as applicable, early childhood educators) with the knowledge and skills necessary to enable students to succeed in a well-rounded education (as defined in this notice) and to meet the challenging State academic standards; and

(b) Are sustained (not stand-alone, one-day, or short term workshops), intensive, collaborative, job-embedded, data-driven, and classroom-focused, and may include activities that—

(1) Improve and increase teachers—

(i) Knowledge of the academic subjects the teachers teach;

(ii) Understanding of how students learn; or

(iii) Ability to analyze student work and achievement from multiple sources, including how to adjust instructional strategies, assessments, and materials based on such analysis;

(2) Are an integral part of broad schoolwide and districtwide educational improvement plans;

(3) Allow personalized plans for each educator to address the educator's specific needs identified in observation or other feedback;

(4) Improve classroom management skills;

(5) Support the recruitment, hiring, and training of effective teachers, including teachers who became certified through State and local alternative routes to certification;

(6) Advance teacher understanding of—

(i) Effective instructional strategies that are evidence-based (as defined in this notice); or

(ii) Strategies for improving student academic achievement or substantially increasing the knowledge and teaching skills of teachers;

(7) Are aligned with, and directly related to, academic goals of the school or LEA;

(8) Are developed with extensive participation of teachers, principals, other school leaders, parents, representatives of Indian tribes (as applicable), and administrators of schools to be served under this program;

(9) Are designed to give teachers of English learners (as defined in this notice), and other teachers and instructional staff, the knowledge and skills to provide instruction and appropriate language and academic support services to those children, including the appropriate use of curricula and assessments;

(10) To the extent appropriate, provide training for teachers, principals, and other school and community-based early childhood program leaders in the use of technology (including education about the harms of copyright piracy), so that technology and technology applications are effectively used in the classroom to improve teaching and learning in the curricula and academic subjects in which the teachers teach;

(11) As a whole, are regularly evaluated for their impact on teacher effectiveness and student academic achievement, with the findings of the evaluations used to improve the quality of professional development;

(12) Are designed to give teachers of children with disabilities (as defined in this notice) or children with developmental delays, and other teachers and instructional staff, the knowledge and skills to provide instruction and academic support services to those children, including positive behavioral interventions and supports, multi-tier system of supports, and use of accommodations;

(13) Include instruction in the use of data and assessments to inform classroom practice;

(14) Include instruction in ways that teachers, principals, other school leaders, specialized instructional support personnel, and school administrators may work more effectively with parents and families;

(15) Involve the forming of partnerships with institutions of higher education, including, as applicable, Tribal Colleges and Universities as defined in section 316(b) of the HEA (20 U.S.C. 1059c(b)), to establish school-based teacher, principal, and other school leader training programs that provide prospective teachers, novice teachers, principals, and other school leaders with an opportunity to work under the guidance of experienced teachers, principals, other school leaders, and faculty of such institutions;

(16) Create programs to enable paraprofessionals (assisting teachers employed by an LEA receiving assistance under part A of title I) to obtain the education necessary for those paraprofessionals to become certified and licensed teachers;

(17) Provide follow-up training to teachers who have participated in activities described in this paragraph that are designed to ensure that the knowledge and skills learned by the teachers are implemented in the classroom; or

(18) Where practicable, provide for school staff and other early childhood education program providers to address jointly the transition to elementary school, including issues related to school readiness.

Rural local educational agency means an LEA that is eligible under the Small Rural School Achievement (SRSA) program or the Rural and Low-Income School (RLIS) program authorized under Title V, Part B of the ESEA. Eligible applicants may determine whether a particular district is eligible for these programs by referring to information on the Department's website at www2.ed.gov/nclb/freedom/local/reap.html.

Well-rounded education means courses, activities, and programming in subjects such as English, reading or language arts, writing, science, technology, engineering, mathematics, foreign languages, civics and government, economics, arts, history, geography, computer science, music, career and technical education, health, physical education, and any other subject, as determined by the State or LEA, with the purpose of providing all students access to an enriched curriculum and educational experience.

Program Authority: Sections 2221-2225 of the Elementary and Secondary Education Act of 1965, as amended by the Every Student Succeeds Act (Pub. L. 115-224).

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Supplemental Priorities.

II. Award Information

Type of Award: Discretionary grants.

Estimated Available Funds: $190,000,000.

Contingent upon the availability of funds and the quality of applications, we may make additional awards in subsequent years from the list of unfunded applications from this competition.

Estimated Range of Awards: $19,000,000 to $38,000,000.

Estimated Average Size of Awards: $29,000,000.

Estimated Number of Awards: 5-10.

Note: The Department is not bound by any estimates in this notice.

Project Period: 60 months.

III. Eligibility Information

1. Eligible Applicants: SEAs of the 50 States, the District of Columbia, and Puerto Rico (referred to in this notice as State).

2.a. Cost Sharing or Matching: This program does not require cost sharing or matching.

b. Supplement-Not-Supplant: This program involves supplement-not-supplant funding requirements.

3. Subgrantees: Under 34 CFR 75.708(b) and (c) a grantee under this competition may award subgrants—to directly carry out project activities described in its application—to eligible entities (as defined in this notice).

The grantee must award subgrants to entities it selects through a competition under procedures established by the grantee.

IV. Application and Submission Information

1. Application Submission Instructions: For information and requirements on how to submit an application please refer to our Common Instructions for Applicants to Department of Education Discretionary Grant Programs, published in the Federal Register on February 13, 2019 (84 FR 3768) and available at https://www.govinfo.gov/content/pkg/FR-2019-02-13/pdf/2019-02206.pdf, which contain requirements and information on how to submit an application.

2. Submission of Proprietary Information: Given the types of projects that may be proposed in applications for the CLSD program, an application may include business information that the applicant considers proprietary. In 34 CFR 5.11, we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This program is subject to Executive Order 12372 and the regulations in 34 CFR part 79. Information about Intergovernmental Review of Federal Programs under Executive Order 12372 is in the application package for this competition.

4. Funding Restrictions: We reference regulations outlining funding restrictions in the Applicable Regulations section of this notice.

5. Recommended Page Limit: The application narrative is where you, the applicant, address the selection criteria that reviewers use to evaluate your application. We recommend you (1) limit the application narrative to no more than 30 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures and graphs

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, resumes, bibliography, or letters of support. However, the recommended page limit does apply to all of the application narrative section.

V. Application Review Information

1. Selection Criteria: The selection criteria for this competition are from 34 CFR 75.210. The maximum score for all selection criteria is 100. The maximum possible score for each selection criterion is indicated in parentheses. The selection criteria for this competition are as follows:

(a) Need for project (15 points).

The Secretary considers the need for the proposed project. In determining the need for the proposed project, the Secretary considers the extent to which specific gaps or weaknesses in services, infrastructure, or opportunities have been identified and will be addressed by the proposed project, including the nature and magnitude of those gaps or weaknesses.

(b) Quality of the project design (25 points).

The Secretary considers the quality of the design of the proposed project. In determining the quality of the design of the proposed project, the Secretary considers the following factors:

(1) The extent to which the goals, objectives, and outcomes to be achieved by the proposed project are clearly specified and measurable.

(2) The extent to which performance feedback and continuous improvement are integral to the design of the proposed project.

(c) Quality of the management plan (25 points).

The Secretary considers the quality of the management plan for the proposed project. In determining the quality of the management plan for the proposed project, the Secretary considers:

(1) The adequacy of the management plan to achieve the objectives of the proposed project on time and within budget, including clearly defined responsibilities, timelines, and milestones for accomplishing project tasks.

(2) The adequacy of procedures for ensuring feedback and continuous improvement in the operation of the proposed project.

(d) Quality of project services (35 points).

The Secretary considers the quality of the project services to be provided by the proposed project. In determining the quality of project services to be provided by the proposed project, the Secretary considers the quality and sufficiency of strategies for ensuring equal access and treatment for eligible project participants who are members of groups that have traditionally been underrepresented based on race, color, national origin, gender, age, or disability. In addition, the Secretary considers:

(1) The likely impact of the services to be provided by the proposed project on the intended recipients of those services; and

(2) The extent to which the training or professional development services to be provided by the proposed project are of sufficient quality, intensity, and duration to lead to improvements in practice among the recipients of those services.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this program the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20(c).

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report (APR) that provides the most current performance and financial expenditure information as directed by the Secretary under 34 CFR 75.118. The Secretary may also require more frequent performance reports under 34 CFR 75.720(c). For specific requirements on reporting, please go to www.ed.gov/fund/grant/apply/appforms/appforms.html.

5. Performance Measures: The Department has established the following Government Performance and Results Act of 1993 performance measures for the CLSD program:

(1) The percentage of participating four-year-old children who achieve significant gains in oral language skills, as determined by a State-approved measure.

(2) The percentage of participating fifth-grade students who meet or exceed proficiency on State reading/language arts assessments under section 1111(b)(2)(B)(v)(I) of the ESEA.

(3) The percentage of participating eighth-grade students who meet or exceed proficiency on State reading/language arts assessments under section 1111(b)(2)(B)(v)(I) of the ESEA.

(4) The percentage of participating high school students who meet or exceed proficiency on State reading/language arts assessments under section 1111(b)(2)(B)(v)(I) of the ESEA.

All grantees will be expected to submit an APR that includes data addressing these performance measures to the extent that they apply to the grantee's project. Performance targets will be established by each grantee and must be made for each year of the five-year performance period.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., Braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Frank Brogan,
Assistant Secretary of the Office of Elementary and Secondary Education.

[FR Doc. 2019-09055 Filed 5-2-19; 8:45 am]

BILLING CODE 4000-01-P